DEPARTMENT OF DEFENSE

Department of the Army

Inventory of Contracts for Services Pursuant to Section 807 of the National Defense Authorization Act for Fiscal Year 2008

AGENCY: Department of the Army, DoD.

ACTION: Notice of publication.

SUMMARY: In accordance with section 2330a of Title 10 United States Code as amended by the National Defense Authorization Act for Fiscal Year 2008 (NDAA 08) Section 807, the Assistant Secretary of the Army (Manpower and Reserve Affairs) (ASA(M&RA)), in cooperation with the Deputy Assistant Secretary of the Army (Procurement) (DASA (P)), and in coordination with the Deputy Director, Defense Procurement, Acquisition Policy, and Strategic Sourcing (DPAP/SS) will publicize its Inventory of Contracts for Services. Publication is required not later than 30 days after the date on which the inventory is submitted to Congress. The inventory will be published on the ASA(M&RA) Web site at the following location: http://www.asamra.army.mil/insourcing/.

DATES: Inventory to be made publically available within October 29, 2008.

ADDRESSES: Send written comments and suggestions concerning this inventory to Dr. John Anderson, Headquarters Department of the Army, Assistant Secretary of the Army (Manpower and Reserve Affairs), Attn: Force Management Directorate (SAMR-TRM), Army Pentagon, Washington, DC 20310. Telephone (703) 693-2119 or E-mail at John.Anderson@hqda.army.mil.

FOR FURTHER INFORMATION CONTACT: Dr. John Anderson, (703) 693-2119 or e-mail at John.Anderson@hqda.army.mil.

SUPPLEMENTARY INFORMATION: NDAA 08, Section 807 amends section 2330a of Title 10 United States Code to require annual inventories and reviews of activities performed under services contracts. The Deputy Under Secretary of Defense (Acquisition and Technology) (DUSD (A&T)) set forth a phased plan to implement Section 807 requirements. In the memorandum entitled “Inventories and Review of Contracts for Services” (May 16, 2008), the DUSD (A&T) required the U.S. Army to develop a prototype inventory list. The Army developed and provided the prototype inventory list by pulling data from the Contractor Manpower Reporting Application, the Federal Procurement Data System—Next Generation, and the Army Contracting Business Intelligence System. The inventory does not include contract numbers, contractor identification or other proprietary or sensitive information as this data can be used to disclose a contractor's proprietary proposal information.

Additional information about the Army inventory will be provided on the ASA(M&RA) Web site at the following location: http://www.asamra.army.mil/insourcing/.

Timothy D. Dixon,
Deputy Assistant Secretary of the Army (Procurement).

[FR Doc. E8-22756 Filed 9-26-08; 8:45 am]

BILLING CODE 3710-08-P